DEPARTMENT OF COMMERCE

Economic Development Administration

13 CFR Part 313

[Docket No.: 170828819-7819-01]

RIN 0610-AA70

Elimination of Regulations Implementing Community Trade Adjustment Assistance Program

AGENCY: Economic Development Administration, U.S. Department of Commerce.

ACTION: Final rule.

SUMMARY: Through this final rule, the Economic Development Administration (“EDA”), U.S. Department of Commerce, eliminates the regulations implementing the Community Trade Adjustment Assistance (“CTAA”) Program. Established in 2009 under the Trade Act of 1974, the CTAA Program was subsequently eliminated by Congress in 2011. Implementing regulations for this now-defunct Program are thus unnecessary. This final rule is a “deregulatory action” pursuant to the April 5, 2017, Office of Management and Budget (“OMB”) guidance memorandum implementing Executive Order 13771.

DATES: This rule is effective October 20, 2017.

FOR FURTHER INFORMATION CONTACT: Jeffrey Roberson, Deputy Chief Counsel, Office of the Chief Counsel, Economic Development Administration, U.S. Department of Commerce, 1401 Constitution Avenue NW., Suite 72023, Washington, DC 20230; telephone: (202) 482-1315.

SUPPLEMENTARY INFORMATION:

Background

The CTAA Program was enacted as part of the Trade Act of 1974 (19 U.S.C. 2101 et seq.) by the Trade and Globalization Adjustment Assistance Act of 2009, which was included as subtitle I (letter “I”) of title I of Division B of the American Recovery and Reinvestment Act of 2009 (Pub. L. 111-5). CTAA was intended to help communities respond to job losses resulting from international trade impacts. EDA's implementing regulations for CTAA, located at 13 CFR part 313, became effective August 18, 2009 (74 FR 41592). For Fiscal Year 2010, the only year in which EDA made awards under CTAA, EDA awarded $36,768,000 in grants to 36 recipients. The CTAA Program was subsequently repealed by section 222 of the Trade Adjustment Assistance Extension Act of 2011 (Pub. L. 112-40) “because it was considered duplicative of other federal programs. . . .” See CRS Report R41922, Trade Adjustment Assistance (TAA) and Its Role in U.S. Trade Policy, Aug. 5, 2013, p. 14. With the elimination of the CTAA Program by Congress, EDA's implementing regulations are now unnecessary.

This elimination of 13 CFR part 313 is a “deregulatory action” pursuant to the April 5, 2017, OMB guidance memorandum implementing Executive Order 13771. Since the program is already defunct, there are no cost savings associated with this elimination.

Classification

Administrative Procedure Act and Regulatory Flexibility Act

Pursuant to 5 U.S.C. 553(b)(B), there is good cause to waive prior notice and an opportunity for public comment on this action, as notice and comment are unnecessary. This rule removes obsolete regulations implementing the CTAA Program, which has been eliminated by Congress. Therefore, public comment would serve no purpose and is unnecessary. There is also good cause under 5 U.S.C. 553(d)(3) to waive the 30-day delay in effectiveness. This rule does not alter the rights or responsibilities of any party, and delaying implementation of this rule serves no purpose.

Because prior notice and an opportunity for public comment are not required pursuant to 5 U.S.C. 553, or any other law, the analytical requirements of the Regulatory Flexibility Act (5 U.S.C. 601 et seq.) are inapplicable. Therefore, a regulatory flexibility analysis has not been prepared.

Executive Orders No. 12866, 13563, and 13771

This final rule was drafted in accordance with Executive Orders 12866, 13563, and 13771. OMB has determined that this rule is not significant for purposes of Executive Orders 12866. This final rule is a “deregulatory action” pursuant to the April 5, 2017, OMB guidance memorandum implementing Executive Order 13771 (M-17-21).

Congressional Review Act

This final rule is not major under the Congressional Review Act (5 U.S.C. 801 et seq.).

Executive Order No. 13132

This final rule does not contain policies that have federalism implications.

Paperwork Reduction Act

The Paperwork Reduction Act of 1995 (44 U.S.C. 3501 et seq.) (“PRA”) requires that a Federal agency consider the impact of paperwork and other information collection burdens imposed on the public and, under the provisions of PRA section 3507(d), obtain approval from OMB for each collection of information it conducts, sponsors, or requires through regulations. Notwithstanding any other provision of law, no person is required to respond to, nor shall any person be subject to a penalty for failure to comply with a collection of information subject to the PRA unless that collection displays a currently valid OMB Control Number. This final rule does not require the collection of any information.

List of Subjects in 13 CFR Part 313

Trade adjustment assistance for communities, Impacted community, Petition and affirmative determination requirements, Strategic plan, Implementation grant.

For the reasons discussed above, and under the authority of 19 U.S.C. 2341-2372, EDA is removing and reserving 13 CFR part 313.

PART 313—[REMOVED AND RESERVED]

Dated: October 16, 2017.
Dennis Alvord,
Deputy Assistant Secretary for Regional Affairs.

[FR Doc. 2017-22782 Filed 10-19-17; 8:45 am]

BILLING CODE 3510-24-P